ENVIRONMENTAL PROTECTION AGENCY

40 CFR Part 63

[AD-FRL-6730-6]

RIN 2060-AE86

National Emission Standards for Hazardous Air Pollutants for Polyether Polyols Production; Synthetic Organic Chemical Manufacturing Industry; Epoxy Resins Production and Non-Nylon Polyamides Production; and Petroleum Refineries

AGENCY: Environmental Protection Agency (EPA).

ACTION: Withdrawal of amendment in direct final rule.

SUMMARY: Due to an adverse comment, the EPA is withdrawing an amendment from the May 8, 2000 direct final rule for National Emission Standards for Hazardous Air Pollutants (NESHAP) for Polyether Polyols Production; Synthetic Organic Chemical Manufacturing Industry; Epoxy Resins Production and Non-Nylon Polyamides Production; and Petroleum Refineries. The amendment being withdrawn deals with the definition of equipment leak in the Petroleum Refineries NESHAP. The withdrawal of the amendment from the direct final rule will only affect sources subject to the Petroleum Refineries NESHAP.

DATES: Amendment 6 in the direct final rule, which amends § 63.641, published on May 8, 2000 (65 FR 26491), is withdrawn as of July 6, 2000. The remaining amendments will be effective July 7, 2000, as stated in the May 8 rule.

ADDRESSES: Docket numbers A-90-20 (Hazardous Organic NESHAP); A-92-37 (Epoxy Resins Production and Non-Nylon Polyamides Production); A-93-48 (Petroleum Refineries); and A-96-38 (Polyether Polyols Production) contain supporting information used in developing the standards. The dockets are located at the U.S. Environmental Protection Agency, 401 M Street SW, Washington, DC 20460, in room M-1500, Waterside Mall (ground floor), and may be inspected from 8:30 a.m. to 5:30 p.m., Monday through Friday, excluding legal holidays.

FOR FURTHER INFORMATION CONTACT: Mr. Robert E. Rosensteel at (919) 541-5608, Emission Standards Division (MD-13), Environmental Protection Agency, Research Triangle Park, North Carolina 27711, electronic mail address “rosensteel.bob@epa.gov”.

SUPPLEMENTARY INFORMATION: On May 8, 2000, the EPA published a direct final rule (65 FR 26491) and a parallel proposal (65 FR 26544) to amend portions of the NESHAP for Polyether Polyols Production; Synthetic Organic Chemical Manufacturing Industry; Epoxy Resins Production and Non-Nylon Polyamides Production; and Petroleum Refineries. The EPA stated in the direct final rule that if relevant, adverse comments were received by June 7, 2000, the EPA would publish a document to withdraw the affected portions of the direct final rule before its effective date of July 7, 2000. The EPA received an adverse comment on Amendment 6 in the direct final rule and, therefore, is withdrawing Amendment 6. This withdrawal of Amendment 6 only affects sources subject to the Petroleum Refineries NESHAP (40 CFR part 63, subpart CC). Amendment 6 would have changed the definition of equipment leak to add the term “connectors” to the equipment leak provisions in the NESHAP.

The adverse comment stated that the EPA's rationale for adding connectors to the list of equipment in the definition of equipment leak was not supported by the record of the rulemaking for the Petroleum Refineries NESHAP. It indicated that meetings with, and correspondence from, EPA and Congress supported flexibility and the New Source Performance Standard (NSPS) option without connectors. Therefore, the EPA is withdrawing this amendment and will decide the appropriate response to this comment. The 19 amendments for which we did not receive adverse comments will become effective on July 7, 2000, as provided in the May 8, 2000 direct final rule (65 FR 26491).

Dated: June 30, 2000.
Robert Brenner,
Acting, Assistant Administrator for Air and Radiation.

[FR Doc. 00-17068 Filed 7-5-00; 8:45 am]

BILLING CODE 6560-50-P